GENERAL SERVICES ADMINISTRATION

Notice of a Computer Matching Program

AGENCY: General Services Administration

ACTION: Notice.

SUMMARY: Pursuant to subsection o(2) of the Privacy Act, 5 U.S.C. 552a, GSA is providing notice of a proposed computer match. The purpose of this match is to identify individuals who are improperly receiving transit benefits.

DATES: Effective Date: June 21, 2010.

FOR FURTHER INFORMATION CONTACT: Call or e-mail the GSA Privacy Act Officer: telephone 202-208-1317; e-mail gsa.privaccyact@gsa.gov.

ADDRESSES: GSA Privacy Officer (CIB), General Services Administration, 1800 F Street, NW., Washington, DC 20405.

SUPPLEMENTARY INFORMATION: Pursuant to subsection o(2) of the Privacy Act, 5 U.S.C. 552a, GSA is providing notice of a proposed computer match. The purpose of this match is to identify individuals who are improperly receiving transit benefits. To accomplish this purpose, the GSA, Office of Inspector General (OIG) will match two internal systems of record—transit benefit records (GSA/Transit-1) and payroll records (GSA/PPFM-9), to identify people receiving transit benefits from GSA who are not current GSA employees.

SYSTEM NAME:

Computer Matching Program within GSA between two internal systems.

a. Participating Agencies:

General Services Administration (GSA).

b. Purpose of the Matching Program:

The purpose of this match is to identify individuals who are improperly receiving transit benefits. Only current GSA employees are entitled to receive transit benefits from GSA. The OIG proposes to compare records in two GSA systems of records, transportation benefit records and payroll records, to identify any person receiving transit benefits from GSA who is not a GSA employee.

c. Authority for Conducting the Matching program:

E.O. 13150, Federal Workforce Transportation; 5 U.S.C. 7905, Federal Employees Clean Air Incentives Act; 5 U.S.C. Appendix 3, the Inspector General Act; and 26 U.S.C. 132(f).

d. Categories of Records and Individuals to be Covered by the Matching Program:

The first, GSA/Transit-1, Transportation Benefits Records, 73 FR 22393 (April 25, 2008), contains identifying information and records of employees who apply for transit subsidies for use of public transportation and vanpools to and from the workplace. The second, GSA/PPFM-9, Payroll Accounting and Reporting System, 73 FR 22398 (April 25, 2008), contains the GSA payroll records for an employee's entire service life, from initial hire through final payment and submission of retirement records to the Office of Personnel Management.

e. Description of Computer Matching Program:

The General Services Administration (GSA), Office of Inspector General (OIG) has proposed this Computer Matching Agreement to identify individuals who are improperly receiving transit benefits. Only current GSA employees are entitled to receive transit benefits from GSA. The OIG proposes to compare records in two GSA systems of records, transportation benefit records and payroll records, to identify any person receiving transit benefits from GSA who is not a GSA employee. No action will be taken based solely on the results of the match; rather, the OIG will evaluate the results of the match and other relevant information to help identify and/or recover any erroneous payments.

The GSA will provide the subject of each verified match at least 30 days to contest the findings before a final determination is made about the validity of the claim and recovery action is initiated. The subject will be given written notice of adverse information and the basis for questioning his/her eligibility. The notice will include instructions on how to refute the questioned payment.

All information obtained and/or generated as part of this computer matching program will be safeguarded in accordance with the provisions of the Privacy Act, other applicable laws, and GSA record safeguarding requirements, including CIO P 2100 1.F, GSA Information Technology (IT) Security Policy, and CIO 2104.1, GSA Information Technology (IT) General Rules of Behavior. Compliance with these requirements will ensure no unauthorized access to or disclosure of this information.

f. Inclusive Dates of the Matching Program:

The matching program will become effective no sooner than 40 days after notice of the matching program is sent to Congress and the Office of Management and Budget, or 30 days after publication of this notice in the Federal Register, whichever date is later. The matching program will continue for 18 months from the effective date and may be extended for an additional 12 months thereafter, if certain conditions are met.

g. For Questions, Contact:

Director, Office of Forensic Auditing, Office of Inspector General, 1800 F Street, NW., Room G-242, Washington, DC, 20405. Telephone (202) 273-4989.

Dated: May 13, 2010.
Cheryl M. Paige,
Director, Office of Information Management.

[FR Doc. 2010-12038 Filed 5-19-10; 8:45 am]

BILLING CODE 6820-34-S